DEPARTMENT OF JUSTICE

Office of Justice Programs

[OMB Number 1121-NEW]

Agency Information Collection Activities: Proposed Collection; Comments Requested

ACTION: 30-day notice of new information collection under review: 2009-2010 BJS Survey of Campus Law Enforcement Agencies.

The Department of Justice, Office of Justice Programs, Bureau of Justice Statistics, will be submitting the following information collection request to the Office of Management and Budget (OMB) for review and approval in accordance with the Paperwork Reduction Act of 1995. The proposed information collection is published to obtain comments from the public and affected agencies. The proposed information collection was previously published in the Federal Register on July 31, 2009, allowing for a 60-day public comment period.

The purpose of this notice is to allow an additional 30 days for public comment until November 4, 2009. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

— Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of Information Collection: New information collection, 2009-2010 BJS Survey of Campus Law Enforcement Agencies (CLEA).

(2) The Title of the Form/Collection: 2009-2010 BJS Survey of Campus Law Enforcement Agencies.

(3) The Agency Form Number, if Any, and the Applicable Component of the Department Sponsoring the Collection: The form label is CJ-44C, Bureau of Justice Statistics, Office of Justice Programs, United States Department of Justice.

(4) Affected Public Who Will Be Asked or Required To Respond, as Well as a Brief Abstract: Primary: Universities and Colleges. The purpose of the CLEA project is to provide detailed statistical information on police and security agencies serving university and college campuses. The project will collect information from campus police and security agencies on functions performed, number and type (sworn vs. nonsworn) of officers employed, arrest jurisdiction, patrol coverage, operating budget, race and gender of officers, screening methods used for hiring new officers, education and training requirements for officers, salaries and special pay for officers, weapons authorized for use by officers, type and number of vehicles operated, use of infield and fixed-site computers, community policing activities, emergency preparedness activities, type and coverage of mass notification systems being used, special units/programs operated, and clearance rates for part I offenses.

(5) An estimate of the total number of respondents and the amount of time estimated for an average respondent to respond: It is estimated that information will be collected from 1,500 campus law enforcement agencies, including approximately 1,300 agencies serving 4-year campuses, and 200 agencies serving 2-year campuses. Annual cost to the respondents is based on the number of hours involved in providing information from agency records. Public reporting burden for this collection of information is estimated to average 3 hours per data collection form. The estimate of hour burden is based on prior BJS surveys of law enforcement agencies that collected similar types of data.

(6) An estimate of the total public burden (in hours) associated with the collection: The estimated public burden associated with this collection is 4,500 hours.

If additional information is required contact: Ms. Lynn Bryant, Department Clearance Officer, United States Department of Justice, Justice Management Division, Policy and Planning Staff, Patrick Henry Building, Suite 1600, 601 D Street, NW., Washington, DC 20530.

Dated: September 30, 2009.
Lynn Bryant,
Department Clearance Officer, PRA, United States Department of Justice.

[FR Doc. E9-23888 Filed 10-2-09; 8:45 am]

BILLING CODE 4410-18-P